SMALL BUSINESS ADMINISTRATION

Agency Information Collection Activities: Proposed Collection; Generic Clearance for the Collection of Qualitative Feedback on Agency Service Delivery

AGENCY: Small Business Administration.

ACTION: 30-day notice and request for comments.

SUMMARY: The U.S. Small Business Administration (SBA) is submitting a Generic Information Collection Request (Generic ICR): “Generic Clearance for the Collection of Qualitative Feedback on Agency Service Delivery” to the Office of Management and Budget (OMB) for approval under the Paperwork Reduction Act (PRA). This information collection is part of a Federal Government-wide effort to streamline the process to seek feedback from the public on the agency's service delivery. SBA previously published a 60-day notice soliciting public comment on the proposed information collection. This 30-day notice, as required by the PRA, provides an additional opportunity for public comment on the Generic ICR.

DATES: Comments must be submitted January 16, 2018.

ADDRESSES: Send all comments to Curtis B. Rich, Agency Clearance Officer, Small Business Administration, 409 3rd Street, 5th Floor, Washington, DC 20416. (202) 205-7030 curtis.rich@sba.gov; and SBA Desk Officer, Office of Information and Regulatory Affairs, Office of Management and Budget, New Executive Office Building, Washington, DC 20503.

FOR FURTHER INFORMATION CONTACT: Amber Chaudhry, Presidential Management Fellow, Office of Communications and Public Liaison, amber.chaudhry@sba.gov, 202-205-0085.

SUPPLEMENTARY INFORMATION: Title: Generic Clearance for the Collection of Qualitative Feedback on Agency Service Delivery.

Abstract: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior fielding the study. Depending on the degree of influence the results are likely to have, such collections may still be eligible for submission for other generic mechanisms that are designed to yield quantitative results.

The Agency did not receive any comments in response to the 60-day public comment notice published in the Federal Register on September 26, 2017, at 82 FR 44865.

Below we provide the SBA's projected average annual estimates for the next three years:

Current Actions: New collection of information.

Type of Review: New Collection.

Affected Public: Individuals and Households, Businesses and Organizations, State, Local or Tribal Government.

Average Expected Annual Number of Activities: 20 Estimated Annual Respondents: 7,500.

Estimated Annual responses: 7,500.

Frequency of Response: Once per request; on occasion.

Average Minutes per Response: 38 minutes.

Burden Hours: 2690.

An agency may not conduct or sponsor, and a person is not required to respond to, a collection of information unless it displays a currently valid OMB Control Number.

Curtis B. Rich,
Management Analyst.

[FR Doc. 2017-26981 Filed 12-13-17; 8:45 am]

BILLING CODE 8025-01-P